DEPARTMENT OF THE TREASURY

Office of the Comptroller of the Currency

Proposed Information Collection; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. Currently, the OCC is soliciting comment concerning its collection titled “Securities Offering Disclosure Rules—12 CFR Part 16”. The OCC is also giving notice that the information collection has been submitted to OMB for review.

DATES: You should submit written comments by: May 24, 2006.

ADDRESSES: You should direct all written comments to the Communications Division, Public Information Room, Mailstop 1-5, Attention: 1557-0120, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

Additionally, you should send a copy of your comments to OCC Desk Officer, 1557-0120, by mail to U.S. Office of Management and Budget, 725, 17th Street, NW., #10235, Washington, DC 20503, or by fax to (202) 395-6974.

FOR FURTHER INFORMATION CONTACT: You can request additional information or a copy of the collection from Mary Gottlieb or Camille Dickerson, (202) 874-5090, Legislative and Regulatory Activities Division, Office of the Comptroller of the Currency, 250 E Street, SW., Washington, DC 20219.

SUPPLEMENTARY INFORMATION: The OCC is requesting that OMB extend the expiration date on the following information collection:

Title: Securities Offering Disclosure Rules—12 CFR Part 16.

OMB Number: 1557-0120.

Description: This submission covers an existing regulation and involves no change to the regulation or to the information collection requirements. The OCC requests only that OMB approve its estimates, revised to more accurately reflect the number of reports filed and the hours required to complete such reports.

The requirements in part 16 enable the OCC to perform its responsibilities relating to offerings of securities by national banks by providing the investing public with facts about the condition of the bank, the reasons for raising new capital, and the terms of the offering. The public needs this information to make an informed decision on whether such securities are an appropriate investment.

• Section 16.3 requires a national bank to file its registration statement with the OCC.

• Section 16.5 provides exemptions for certain offers or sales of banks securities, which, in turn, require certain filings.

• Section 16.6 requires a national bank to file documents with the OCC and to make certain disclosures to purchasers in sales of nonconvertible debt.

• Section 16.7 provides exemptions for certain nonpublic offerings, which, in turn, require certain filings.

• Section 16.8 provides small issues exemptions, which, in turn, require certain filings.

• Section 16.15 requires a national bank to file a registration statement and sets forth content requirements for the registration statement.

• Section 16.20 requires a national bank to file current and periodic reports as required by sections 13 and 15(d) of the Exchange Act and those provisions of the Sarbanes-Oxley Act that the OCC is authorized to enforce. In addition, the OCC requires a national bank to give notice to it when the bank's duty to file public and periodic reports with the OCC is suspended. This requirement reflects SEC Rule 15d6.

• Section 16.30 requires a national bank to include certain elements and follow certain procedures in any request to the OCC for a no-objection letter.

Estimated number of respondents: 81.

Estimated number of responses: 191.

Average hours per response: Varies.

Estimated total burden hours: 5,333 hours.

Likely respondents: National banks.

Type of Review: Extension of a currently approved collection.

Affected Public: Businesses or other for-profit.

Comments submitted in response to this notice will be summarized and included in the request for OMB approval. All comments will become a matter of public record. Comments are invited on:

(a) Whether the collection of information is necessary for the proper performance of the functions of the agency, including whether the information shall have practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: April 18, 2006.
Stuart Feldstein,
Assistant Director, Legislative & Regulatory Activities Division.

[FR Doc. E6-6031 Filed 4-21-06; 8:45 am]

BILLING CODE 4810-33-P